DEPARTMENT OF HOMELAND SECURITY

Coast Guard

33 CFR Part 165

[Docket No. USCG-2010-0063]

Safety Zones; Annual Firework Displays Within the Captain of the Port, Puget Sound Area of Responsibility

AGENCY: Coast Guard, DHS.

ACTION: Correction of Notice of Enforcement of Regulation.

SUMMARY: On July 1, 2010, the Coast Guard published a document in the Federal Register, providing notice of enforcement of a 300-yard safety zone in Dyes Inlet for the Whaling Days event on July 24, 2010. This correction changes the date for the zone to July 23, 2010. During the enforcement periods, entry into, transit through, mooring, or anchoring within these zones is prohibited unless authorized by the Captain of the Port, Puget Sound or Designated Representative.

DATES: This safety zone will be enforced from 5 p.m. on July 23, 2010, to 1 a.m. on July 24, 2010.

FOR FURTHER INFORMATION CONTACT: If you have questions on this notice, call or e-mail LTJG Ashley M. Wanzer, Sector Seattle Waterways Management, Coast Guard; telephone 206-217-6175, SectorSeattleWWM@uscg.mil.

SUPPLEMENTARY INFORMATION: The Coast Guard will enforce the safety zone listed in 33 CFR 165.1332, Safety Zones; annual firework displays within the Captain of the Port, Puget Sound Area of Responsibility. A previous notice of enforcement, published on July 1, 2010 (75 FR 38021), incorrectly stated that the zone would be enforced on July 24, 2010. This notice provides corrected information.

The following safety zone will be enforced from 5 p.m. on July 23, 2010 through 1 a.m. on July 24, 2010:

Event Name | Location | Latitude | Longitude | Radius
Whaling Days | Dyes Inlet | 47° 38.65′ N | 122° 41.35′ W | 300

Dated: July 12, 2010.
S.W. Bornemann,
Captain, U.S. Coast Guard, Captain of the Port, Puget Sound.

[FR Doc. 2010-18267 Filed 7-23-10; 11:15 am]

BILLING CODE 9110-04-P